NATIONAL COUNCIL ON DISABILITY

Cancellation of Advisory Committee Meeting/Teleconference

FEDERAL REGISTER CITATION OF PREVIOUS ANNOUNCEMENT: April 30, 2002, FR Doc. 02-1525, on page 21281.

TIME AND DATE: 4 p.m. EST, May 8, 2002.

PLACE: National Council on Disability, 1331 F Street, NW., Suite 850, Washington, DC.

AGENCY: National Council on Disability (NCD).

STATUS: Meeting canceled.

CONTACT PERSON FOR MORE INFORMATION: Gerrie Drake Hawkins, Ph.D., Program Specialist, National Council on Disability, 1331 F Street NW., Suite 850, Washington, DC 20004; 202-272-2004 (voice), 202-272-2074 (TTY), 202-272-2022 (fax), ghawkins@ncd.gov (e-mail).

YOUTH ADVISORY COMMITTEE MISSION: The purpose of NCD's Youth Advisory Committee is to provide input into NCD activities consistent with the values and goals of the Americans with Disabilities Act.

Dated: May 2, 2002.
Ethel D. Briggs,
Executive Director.

[FR Doc. 02-12151 Filed 5-14-02; 8:45 am]

BILLING CODE 6820-MA-M